DEPARTMENT OF ENERGY

Bonneville Power Administration

Agency Information Collection Activities: Proposed Collection; Comment Request; Other Utility/Contractor/Vendor Worker Access Request Form

AGENCY: Bonneville Power Administration (BPA), DOE.

ACTION: Notice of submission of information collection approval from the Office of Management and Budget (OMB) and request for comments.

SUMMARY: BPA is submitting to OMB for clearance, a proposal for the collection of information under the provisions of the Paperwork Reduction Act of 1995. The proposed collection will allow BPA to gather information from contractors and service vendors, to be used by BPA to document compliance with NERC Standard CIP-004-3 by maintaining a list of personnel given authorized cyber access or unescorted physical access into BPA's Critical Cyber Assets, based on those personnel having the appropriate level of personnel risk assessment, training, and security awareness.

DATES: Comments must be submitted on or before June 24, 2014.

ADDRESSES: Written comments may be submitted to: DOE Desk Officer, Office of Information and Regulatory Affairs, Office of Management and Budget, New Executive Office Building, Room 10102, 735 17th Street NW., Washington, DC 20503.

FOR FURTHER INFORMATION CONTACT: Additional information may be requested from: Information Collection Clearance Officer, Christopher M. Frost, Governance and Internal Controls, DGC-7, Bonneville Power Administration, 905 NE. 11th Avenue, Portland, Oregon 97232, or by email: IGLM@bpa.gov.

SUPPLEMENTARY INFORMATION: (1) OMB Number: New.

(2) Information Collection Request Title: Other Utility/Contractor/Vendor Worker (OUW) Unescorted Access Request.

(3) Type of Request: New.

(4) Abstract: The information requested on this form is used by BPA to document compliance with NERC Standard CIP-004-3, R2 and R3, which requires that personnel having authorized cyber or authorized unescorted physical access to BPA's Critical Cyber Assets, including contractors and service vendors, have an appropriate level of personnel risk assessment, training, and security awareness.

Below we provide the BPA projected average estimates for the next three years.

Affected Public: Contracting and Vendor Businesses and Organizations.

Annual Estimated Number of Respondents: Approx. 500.

Annual Estimated Number of Total Responses: Approx. 500.

Average Minutes per Response: 15.

Annual Estimated Number of Burden Hours: 125.

An agency may not conduct or sponsor, and a person is not required to respond to, a collection of information unless it displays a currently valid Office of Management and Budget control number.

Issued in Portland, Oregon, on April 24, 2014.
Damian J. Kelly,
Acting Chief Compliance Officer, Agency Governance and Compliance.

[FR Doc. 2014-10163 Filed 5-2-14; 8:45 am]

BILLING CODE 6450-01-P